DEPARTMENT OF THE INTERIOR

National Park Service

[NPS-WASO-NRNHL-DTS#-26973; PPWOCRADI0, PCU00RP14.R50000]

National Register of Historic Places; Notification of Pending Nominations and Related Actions

AGENCY: National Park Service, Interior.

ACTION: Notice.

SUMMARY: The National Park Service is soliciting comments on the significance of properties nominated before November 10, 2018, for listing or related actions in the National Register of Historic Places.

DATES: Comments should be submitted by December 12, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before November 10, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

CALIFORNIA

Los Angeles County

Aloha Apartment Hotel, 6731 Leland Way, Los Angeles, SG100003238

La Casa Del Rey, 1516 N Hobart Blvd., Los Angeles, SG100003239

Hollywood Argyle Apartments, 2017 N Argyle Ave., Los Angeles, SG100003240

Sonoma County

Baker House, 35292 Timber Ridge Rd., The Sea Ranch, SG100003234

IDAHO

Ada County

Firebird Raceway, 8551 ID 16, Eagle vicinity, SG100003243

LOUISIANA

East Baton Rouge Parish

Robinson, Eddie Sr., Historic District, Roughly bounded by North Blvd., S 18th St., Terrace Ave. & I 110/10, Baton Rouge, SG100003248

MARYLAND

Washington County

Cool Hollow Home, 9302 Old National Pike, Hagerstown, SG100003253

MINNESOTA

Ramsey County

Osborn Building, 370 N Wabasha St., Saint Paul, SG100003233

NEW YORK

Delaware County

Rock Rift Fire Observation Tower (Fire Observation Stations of New York State Forest Preserve MPS), Tower Ln., Tompkins vicinity, MP100003231

Rensselaer County

Public School No. 1, 2920 5th Ave., Troy, SG100003232

OHIO

Huron County

Plymouth Historic District, Roughly bounded by Dix, Trux, Mills & New Railroad Sts., Plymouth, SG100003245

Mahoning County

Forest Lawn Memorial Park, 5400 Market St., Boardman, SG100003244

OKLAHOMA

Comanche County

Sunset—Vogue—Blue Ribbon Apartments Historic District, NW Williams & Hoover Aves, NW 23rd & 22nd Sts., Lawton, SG100003236

Oklahoma County

Slaughter, Dr. W.H., House, 3101 NE 50th St., Oklahoma City, SG100003237

PENNSYLVANIA

Lehigh County

Schubert—Graber Log-Post Shop, 6561 Powder Valley Rd., Zionsville, SG100003247

WASHINGTON

Adams County

Adams County Courthouse, 210 W Broadway Ave., Ritzville, SG100003256

King County

Highland Apartments (Seattle Apartment Buildings, 1900-1957), 931 11th Ave. E, Seattle, MP100003254

Spokane County

McKinley School, 117 N Napa St., Spokane, SG100003257

WEST VIRGINIA

Fayette County

Fayetteville Esso Station, 145 S Court St., Fayetteville, SG100003250

McDowell County

Welch Commercial Historic District (Boundary Increase), Roughly bounded by Wyoming St., Elkhorn Cr. and the Tug R., Welch, BC100003251

Wood County

Lane, Isaac F., House, 1399 Waverly Rd., Williamstown vicinity, SG100003252

Additional documentation has been received for the following resources:

SOUTH CAROLINA

Lexington County

Cartledge House (Batesburg-Leesville MRA), 305 Saluda Ave., Batesburg, AD82003879

Spartanburg County

Drayton Mill, 1802 Drayton Rd., Spartanburg vicinity, AD12000882

Authority: Section 60.13 of 36 CFR part 60.

Dated: November 9, 2018.
Christopher Hetzel,
Acting Chief, National Register of Historic Places/National Historic Landmarks Program.

[FR Doc. 2018-25764 Filed 11-26-18; 8:45 am]

BILLING CODE 4312-52-P